DEPARTMENT OF DEFENSE

Office of the Secretary

32 CFR Part 110

[Docket ID: DOD-2018-OS-0046]

RIN 0790-AK32

Standard Rates of Subsistence Allowance and Commutation Instead of Uniforms for Members of the Senior Reserve Officers' Training Corps

AGENCY: Office of the Under Secretary for Personnel and Readiness, DoD.

ACTION: Final rule.

SUMMARY: This final rule removes DoD's regulation which provides internal processes and accounting information in order to provide subsistence and commutation instead of uniforms to members of Senior Reserve Officers' Training Corps (ROTC) programs located at eligible colleges and universities. Examples of eligible colleges and universities include The Citadel and Virginia Military Institute where students wear a uniform prescribed by the institution instead of Service-specific uniforms.

DATES: This rule is effective on February 28, 2019.

FOR FURTHER INFORMATION CONTACT: LTCOL Naomi Y. Henigin, 703-695-5529.

SUPPLEMENTARY INFORMATION: It has been determined that publication of this CFR part removal for public comment is impracticable, unnecessary, and contrary to public interest since it is based on removing DoD internal policies and procedures that are publicly available on the Department's issuance website. DoD internal guidance concerning subsistence and commutation to members of Senior ROTC programs located at eligible colleges and universities will continue to be published in DoD Instruction 1215.08, “Senior Reserve Officers' Training Corps (ROTC) Programs,” available at https://www.esd.whs.mil/Portals/54/Documents/DD/issuances/dodi/121508p.pdf?ver=2019-01-29-121836-737.

This rule is not significant under Executive Order (E.O.) 12866, “Regulatory Planning and Review,” therefore, E.O. 13771, “Reducing Regulation and Controlling Regulatory Costs” does not apply.

List of Subjects in 32 CFR Part 110

Armed forces reserves, Colleges and universities. Reporting and recordkeeping requirements. Wages.

PART 110—[REMOVED]

Accordingly, by the authority of 5 U.S.C. 301, 32 CFR part 110 is removed.

Dated: February 25, 2019.
Aaron T. Siegel,
Alternate OSD Federal Register Liaison Officer, Department of Defense.

[FR Doc. 2019-03517 Filed 2-27-19; 8:45 am]

BILLING CODE 5001-06-P